POSTAL SERVICE

39 CFR Part 20

International Mailing Services: Mailing Services Product and Price Changes

AGENCY: Postal Service™.

ACTION: Final rule.

SUMMARY: On October 24, 2017, the Postal Service published proposed product and price changes to reflect a notice of price adjustments filed with the Postal Regulatory Commission (PRC). The PRC has found that price adjustments and product changes contained in the Postal Service's notice may go into effect on January 21, 2018. The Postal Service will revise Notice 123, Price List to reflect the new prices and Mailing Standards of the United States Postal Service, International Mail Manual (IMM®) to reflect the product changes.

DATES: Effective: January 21, 2018.

FOR FURTHER INFORMATION CONTACT: Paula Rabkin at 202-268-2537.

SUPPLEMENTARY INFORMATION:

I. Proposed Rule and Response

In October 2017, the Postal Service filed a notice of mailing services price adjustments with the Postal Regulatory Commission (PRC) for products and services covered by Mailing Standards of the United States Postal Service, International Mail Manual (IMM®), to be effective on January 21, 2018. On October 24, 2017, the USPS™ published a notice of proposed product and price changes in the Federal Register entitled “International Mailing Services: Proposed Product and Price Changes—CPI” (82 FR 49160). The document included price changes that the Postal Service would adopt for products and services covered by Mailing Standards of the United States Postal Service, International Mail Manual (IMM®) and publish in Notice 123, Price List, on Postal Explorer® at pe.usps.com. The Postal Service received no comments.

II. Decision of the Postal Regulatory Commission

As stated in the PRC's Order No. 4215, issued on November 9, 2017, the PRC found that the prices in the Postal Service's Notice may go into effect on January 21, 2018. The new prices will accordingly be posted in Notice 123, on Postal Explorer at pe.usps.com.

The following product changes to the IMM, conforming to the requirements of the Universal Postal Convention limiting the contents of First-Class Mail International postcard, letter, and large envelope (flat) mail to personal correspondence and non-dutiable documents, were also accepted without comment and will accordingly be posted in the January 21, 2018, revision of the IMM on Postal Explorer at pe.usps.com.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

1 International Mail Services

* * * * *

120 Preparation for Mailing

* * * * *

123 Customs Forms and Online Shipping Labels

123.6 Required Usage

123.61 Conditions

* * * * *

Exhibit 123.61

Customs Declaration Form Usage by Mail Category

* * * * *

[Revise the heading and text for the First-Class Mail International section to read as follows:]

Type of item | Declared value, weight, or physical characteristic | Required PS form | Comment (if applicable)
* * * * * * *
First-Class Mail International Letters and Large Envelopes (Flats), as well as International Priority Airmail (IPA) Letters and Large Envelopes (Flats) and International Surface Air Lift (ISAL) Envelopes (Flats)
All letter-size and flat-size items, as defined in 241.2, containing only nondutiable documents | Under 16 ounces 16 ounces or more | None 2976. | See 123.63 for additional information concerning “documents.” Items containing merchandise must be mailed using Global Express Guaranteed service, Priority Mail Express International service, Priority Mail International service, or First-Class Package International Service; commercial mailers may also use IPA packages (small packets) and ISAL packages (small packets) to mail merchandise. Certain documents controlled by export regulatory agencies may also require customs documentation. See 510-590 and Publication 699 for additional information.
All items containing any goods, regardless of weight | Prohibited | Prohibited | See 123.63 for additional information concerning “documents” and merchandise. Items containing merchandise must be mailed using Global Express Guaranteed service, Priority Mail Express International service, Priority Mail International service, or First-Class Package International Service; commercial mailers may also use IPA packages (small packets) and ISAL packages (small packets) to mail merchandise.
* * * * * * *

[Delete the footnote]

* * * * *

[Revise the heading of 123.63 to read as follows (indicating a separation of documents and merchandise):]

123.63 Separation of Documents and Merchandise

[Revise the text to read as follows (dividing the section into subsections, with 123.631 containing new text that explains the separation between documents and merchandise, 123.632 based on the first part of the previous 123.63, and 123.633 based on the second part of the previous 123.63):]

123.631 Explanation of Separation

Letter-post mail (First-Class Mail International, IPA and ISAL items, and First-Class Package International Service) must be separated based on contents into Documents and Merchandise categories. Merchandise consists of items other than documents that are considered potentially dutiable, as well as documents that may be subject to customs duties. Mailers must declare a value and place a customs form on each merchandise item. If any item (merchandise or document) weighs more than 16 ounces, a mailer must place a customs form on it, regardless of the content.

123.632 Documents

In Exhibit 123.61, the “Type of Item” column has several references to “documents.” For this purpose, “documents” refers only to any piece of written, drawn, or printed information, excluding objects of merchandise. Documents do not include digital and electronic storage media or devices such as CDs, DVDs, or flash drives. Examples of documents include the following:

a. Audit and business records.

b. Personal correspondence.

c. Circulars.

d. Pamphlets.

e. Advertisements.

f. Written instruments not intended to be resold.

g. Money orders, checks, and similar items that cannot be negotiated or converted into cash without forgery.

123.633 Customs Forms Required

The following are examples of items that are required to bear a customs declaration form and to declare a value:

a. CDs, DVDs, flash drives, video and cassette tapes, and other digital and electronic storage media—regardless of whether they are blank or contain electronic documents or other prerecorded media.

b. Artwork.

c. Collector or antique document items.

d. Books.

e. Periodicals.

f. Printed music.

g. Printed educational or test material.

h. Player piano rolls.

i. Commercial engineering drawings.

j. Commercial blueprints.

k. Film.

l. Negatives.

m. X-rays.

n. Separation negatives.

o. Commercial photographs.

* * * * *

141.5 First-Class Mail International

[Revise the first two sentences to read as follows:]

First-Class Mail International is a generic term for mailpieces that are postcard size, letter-size or flat-size and weigh 4 pounds or less. First-Class Mail International items may contain any letter-size or flat-size mailable correspondence or nondutiable documents that are not prohibited by the destination country. * * *

* * * * *

141.6 First-Class Package International Service

[Revise the second sentence to replace “registry” with “Registered Mail,” to read as follows:]

At the sender's option, extra services, such as Registered Mail and return receipt, may be added on a country-specific basis.

* * * * *

240 First-Class Mail International

* * * * *

242 Eligibility

242.1 Content Eligibility

[Revise text to read as follows (indicating that only correspondence and nondutiable documents may be sent by FCMI)]:

Subject to applicable weight and size limits, only correspondence and nondutiable documents that are otherwise acceptable and not prohibited by the Postal Service or the country of destination may be mailed at the First-Class Mail International price.

[Revise the heading of 242.2 to read as follows:]

242.2 Merchandise

[Replace subsections 242.21 and 242.22 with text to read as follows (because no merchandise, neither dutiable as in the previous 242.21 nor nondutiable as in the previous 242.22, may be mailed with First-Class Mail International service):]

No merchandise, whether dutiable or nondutiable, may be mailed using First-Class Mail International Service. Items containing merchandise may be sent by Global Express Guaranteed service, Priority Mail Express International service, Priority Mail International service, or First-Class Package International Service; commercial mailers may also use IPA packages (small packets) and ISAL packages (small packets).

* * * * *

243 Prices and Postage Payment Methods

* * * * *

243.3 Permit Imprint—General

[Revise the fourth sentence to read as follows (specifying that the only First-Class Mail International items that require customs forms are letters and flats that weigh more than 16 ounces):]

Mailers may use a permit imprint for mailing identical- or nonidentical-weight First-Class Mail International items. Any of the First-Class Mail International permit imprint formats shown in Exhibit 152.64 is acceptable. Permit imprints must not denote “bulk mail,” “nonprofit,” or other domestic or special mail markings. For items requiring a customs form (First-Class Mail International letter-size and flat-size mailpieces weighing more than 16 ounces), mailers must also meet the following requirements: * * *

* * * * *

Individual Country Listings

* * * * *

[For every country that accepts Free Matter for the Blind service, revise the first paragraph of the “Free Matter for the Blind” text to read as follows (noting that First-Class Mail International service is limited to documents only):]

Free Matter for the Blind (270)

Free when sent as First-Class Mail International (documents only), First-Class Package International Service, Priority Mail International Flat Rate Envelopes, or Priority Mail International Small Flat Rate Priced Boxes. Weight limit: 4 pounds.

* * * * *

[For the following countries, revise the applicable text as noted:]

Afghanistan

* * * * *

Restrictions

[Revise the entry to read as follows:]

Traveler's checks, precious stones, jewelry, and other valuable articles are admitted only in registered First-Class Package International Service shipments.

* * * * *

Aruba

Prohibitions (130)

[Revise the first entry to read as follows:]

Coins; banknotes; currency; securities of any kind payable to bearer; traveler's checks; platinum, gold, and silver (manufactured or not); precious stones; jewelry; and other valuable articles, unless they are sent by First-Class Package International Service with Registered Mail Service.

* * * * *

Benin

* * * * *

Observations

[Revise the first entry to read as follows:]

1. First-Class Package International Service items containing dutiable articles must be registered.

* * * * *

Bonaire, Sint Eustatius, and Saba

Prohibitions (130)

[Revise the first entry to read as follows:]

Coins; banknotes; currency; securities of any kind payable to bearer; traveler's checks; platinum, gold, and silver (manufactured or not); precious stones; jewelry; and other valuable articles, unless they are sent in First-Class Package International Service with Registered Mail service.

* * * * *

Brazil

* * * * *

Restrictions

[Revise the second entry to read as follows:]

Postage stamps are admitted only in First-Class Package International Service with Registered Mail service shipments.

* * * * *

Burkina Faso

* * * * *

Observations

[Revise the entry to read as follows:]

1. First-Class Package International Service items containing dutiable articles must be registered.

* * * * *

Burma

(Myanmar)

* * * * *

Observations

[Revise the first entry to read as follows;]

1. The following may not be sent as merchandise with First-Class Package International Service if they are liable to customs duty: Works of art (including photographs), printed forms, account books, manuscript books, labels, advertising matter (except trade catalogs and circulars), picture books, almanacs, maps, old paper, and old newspapers serving as packing paper.

* * * * *

Cameroon

* * * * *

Restrictions

[Revise the entry to read as follows:]

Banknotes; currency notes; and securities payable to bearer may be sent only as First-Class Package International Service with Registered Mail service.

* * * * *

Canada

Restrictions

[Revise the first entry to read as follows:]

Coins; banknotes; currency notes; securities payable to bearer; traveler's checks; gold, silver, platinum, manufactured or not; jewelry; and other valuable articles may be sent only by First-Class Package International Service with Registered Mail service.

Exceptions

Coins sent to or from collectors or dealers may be mailed in ordinary (uninsured) parcels.

* * * * *

Cote d'Ivoire (Ivory Coast)

* * * * *

Observations

[Revise the first entry to read as follows:]

1. First-Class Package International Service items containing dutiable articles must be registered.

* * * * *

Curacao

Prohibitions (130)

[Revise the first entry to read as follows:]

Coins; banknotes; currency; securities of any kind payable to bearer; traveler's checks; platinum, gold, and silver (manufactured or not); precious stones; jewelry; and other valuable articles, unless they are sent in registered First-Class Package International Service.

* * * * *

Faroe Islands

* * * * *

Restrictions

[Revise the first entry to read as follows:]

Coins; banknotes; currency notes (paper money); securities payable to bearer; traveler's checks; manufactured and unmanufactured platinum, gold, silver; precious stones; jewelry; and other valuable articles, may only be sent in registered First-Class Package International Service or insured parcels.

* * * * *

French Guiana

* * * * *

Restrictions

[Revise the first entry to read as follows:]

Coins; banknotes; currency notes (paper money); securities payable to bearer; traveler's checks; manufactured and unmanufactured platinum, gold, silver; precious stones; jewelry; and other valuable articles, may only be sent in registered First-Class Package International Service shipments.

* * * * *

French Polynesia (Includes Tahiti)

* * * * *

Restrictions

[Revise the entry to read as follows:]

Banknotes admitted only in registered First-Class Package International Service.

* * * * *

Gambia

* * * * *

Restrictions

[Revise the entry to read as follows:]

Banknotes; currency notes; securities payable to bearer; traveler's checks; manufactured and unmanufactured platinum, gold, silver; precious stones; jewelry; and other valuable articles may be sent only in registered First-Class Package International Service shipments.

* * * * *

Ghana

* * * * *

Restrictions

[Revise the entry to read as follows:]

Banknotes, treasury notes, currency notes, and coins may only be sent in registered First-Class Package International Service shipments from one bank to another.

* * * * *

Greece

Prohibitions

* * * * *

[Revise the third entry to read as follows:]

Coins; traveler's checks; platinum, gold or silver, manufactured or not; precious stones; jewelry; and other valuable articles, except banknotes, currency notes (paper money), and securities payable to bearer may be sent in registered First-Class Package International Service shipments.

* * * * *

Restrictions

[Revise the first entry to read as follows:]

Banknotes, currency notes; and securities payable to bearer may only be sent in registered First-Class Package International Service shipments.

* * * * *

Guadeloupe (Includes Saint Bartholomew and Saint Martin)

* * * * *

Restrictions

[Revise the first entry to read as follows:]

Coins; banknotes; currency notes; securities payable to bearer; traveler's checks; manufactured and unmanufactured platinum, gold, and silver; precious stones; jewels; expensive jewelry; and other valuable articles may only be sent in registered First-Class Package International Service shipments.

* * * * *

Israel

* * * * *

Restrictions

[Revise the first entry to read as follows:]

Coins; banknotes; currency notes (paper money); securities payable to bearer; traveler's checks; platinum, gold or silver, manufactured or not; precious stones; jewelry; and other valuable articles may only be sent in registered First-Class Package International Service shipments.

* * * * *

[Revise the fifth entry to read as follows:]

Records, films, recording wire, computer cards, QSL cards, and magnetic film are admitted only if sent in First-Class Package International Service shipments.

* * * * *

Italy

* * * * *

Restrictions

* * * * *

[Revise the second entry to read as follows:]

Postage stamps for philatelic purposes are admitted in registered First-Class Package International Service shipments on condition that the package bears a completed PS Form 2976 and the addressee complies with the Italian financial regulations.

* * * * *

Japan

* * * * *

Restrictions

* * * * *

[Revise the second entry to read as follows:]

Coins; banknotes; currency notes (paper money); securities payable to bearer; traveler's checks; platinum, gold or silver, manufactured or not; precious stones; jewelry; and other valuable articles may only be sent in registered First-Class Package International Service shipments or insured Priority Mail International parcels.

* * * * *

Korea, Republic of (South Korea)

* * * * *

Restrictions

[Revise the first entry to read as follows:]

Coins; paper currency; banknotes; currency notes; securities payable to bearer; jewelry; manufactured and unmanufactured platinum, gold, and silver; precious stones; and other valuable articles are admitted only if sent in registered First-Class Package International Service shipments.

* * * * *

Libya

* * * * *

Observations

* * * * *

[Revise the third entry to read as follows:]

3. In accordance with Executive Order 12543 of January 7, 1986, merchandise is limited to donations of articles of food, clothing, medicines, and medical supplies that are intended strictly for medical purposes. First-Class Package International Service items and International Priority Airmail (IPA) items are subject to the content restriction. ISAL service is suspended because transportation is not available.

* * * * *

Macao

* * * * *

Restrictions

[Revise the entry to read as follows:]

Coins; banknotes; currency notes; traveler's checks; securities payable to bearer; platinum, gold or silver, manufactured or not; precious stones; jewelry; and other valuable articles may only be sent in registered First-Class Package International Service shipments.

* * * * *

Mali

* * * * *

Observations

[Revise the first entry to read as follows:]

1. First-Class Package International Service items and Priority Mail International Flat Rate Envelopes containing dutiable articles must be registered.

* * * * *

Namibia

Prohibitions

* * * * *

[Revise the fourth entry to read as follows:]

Diamonds or precious stones except in registered First-Class Package International Service shipments.

* * * * *

Niger

* * * * *

Observations

[Revise the entry to read as follows:]

First-Class Package International Service items containing dutiable articles must be registered.

* * * * *

Oman

* * * * *

Observations

[Revise the entry to read as follows:]

First-Class Package International Service items containing dutiable articles must be registered.

* * * * *

Reunion

* * * * *

Restrictions

[Revise the first entry to read as follows:]

Banknotes; currency notes; and securities payable to bearer may only be sent in registered First-Class Package International Service shipments.

* * * * *

Rwanda

Prohibitions (130)

[Revise the first entry to read as follows:]

Coins, banknotes, currency notes (paper money), traveler's checks, and securities payable to bearer except in registered First-Class Package International Service shipments.

* * * * *

San Marino

* * * * *

Restrictions

[Revise the entry to read as follows:]

Postage stamps for philatelic purposes are admitted in registered First-Class Package International Service shipments on condition that the package bears a completed PS Form 2976 and the addressee complies with the Italian financial regulations.

* * * * *

Senegal

* * * * *

Observations

[Revise the entry to read as follows:]

First-Class Package International Service items containing dutiable articles must be registered.

* * * * *

Sierra Leone

Prohibitions (130)

[Revise the first entry to read as follows:]

Postage stamps, whether used or not, except in registered First-Class Package International Service shipments.

* * * * *

Restrictions

* * * * *

[Revise the second entry to read as follows:]

Coins or precious metal sent in registered First-Class Package International Service shipments may not exceed L5 in value.

* * * * *

Singapore

Prohibitions (130)

* * * * *

[Revise the fifth entry to read as follows:]

Coins except coins for purposes of ornament; banknotes; currency notes; traveler's checks; securities payable to bearer; precious stones; jewelry; and other valuable articles. However, unmounted precious stones may be sent in registered First-Class Package International Service shipments if authorization is obtained from the Postmaster General of Singapore.

* * * * *

Sint Maarten

Prohibitions (130)

[Revise the first entry to read as follows:]

Coins; banknotes; currency; securities of any kind payable to bearer; traveler's checks; platinum, gold, and silver (manufactured or not); precious stones; jewelry; and other valuable articles, unless they are sent in registered First-Class Package International Service.

* * * * *

Somalia

Prohibitions (130)

* * * * *

[Revise the second entry to read as follows:]

Coins; banknotes; currency; securities of any kind payable to bearer; traveler's checks; platinum, gold, and silver (manufactured or not); precious stones; jewelry; and other valuable articles.

* * * * *

South Africa

Prohibitions (130)

* * * * *

[Revise the fourth entry to read as follows:]

Diamonds or precious stones except in registered First-Class Package International Service shipments.

* * * * *

Observations

* * * * *

[Revise the third entry to read as follows (specifying that only FCPIS with Registered Mail service may be used):]

3. Coins; banknotes; currency notes (paper money); traveler's checks; platinum, gold, and silver (manufactured or not); precious stones; jewelry; and other valuable articles are admitted only in First-Class Package International Service with Registered Mail service shipments.

* * * * *

Sudan

* * * * *

Restrictions

[Revise the entry to read as follows:]

Banknotes greater than 2 Sudanese pounds in value are admitted ONLY in registered First-Class Package International Service shipments.

* * * * *

Taiwan

* * * * *

Observations

[Revise the first entry to read as follows:]

1. First-Class Package International Service items containing dutiable articles must be registered.

* * * * *

Tanzania

* * * * *

Restrictions

[Revise the entry to read as follows:]

Coins must not exceed 100 shillings in value and must be sent in registered First-Class Package International Service shipments.

* * * * *

Togo

Prohibitions (130)

* * * * *

[Revise the third entry to read as follows:]

Banknotes, currency notes, securities payable to bearer, traveler's checks, may only be sent in registered First-Class Package International Service shipments.

* * * * *

* * * * *

Uganda

* * * * *

Restrictions

[Revise the first entry to read as follows:]

Coins; banknotes; currency notes (paper money); securities payable to bearer; traveler checks; platinum, gold or silver, manufactured or not; precious stones, jewelry; and other valuable articles, may only be sent in registered First-Class Package International Service shipments.

* * * * *

Ukraine

* * * * *

Restrictions

[In the first entry, revise item e to read as follows:]

1. In order to be admissible, the food items listed below must * * * (e) be shipped in quantities not to exceed 2 kilograms (4 pounds) when enclosed in a First-Class Package International Service shipment * * *.

* * * * *

Yemen

* * * * *

Restrictions

* * * * *

[Revise the second entry to read as follows:]

Coins, banknotes, currency notes, securities payable to bearer, and traveler's checks may only be sent in registered First-Class Package International Service shipments.

* * * * *

Zambia

* * * * *

Restrictions

[Revise the first entry to read as follows:]

Coins; paper currency; banknotes; currency notes; securities payable to bearer; jewelry; manufactured and unmanufactured platinum, gold, and silver; precious stones; and other valuable articles are admitted only if sent in registered First-Class Package International Service shipments.

Stanley F. Mires,
Attorney, Federal Compliance.

[FR Doc. 2017-26143 Filed 12-4-17; 8:45 am]

BILLING CODE 7710-12-P